JUDICIAL CONFERENCE OF THE UNITED STATES

Meeting of the Judicial Conference Advisory Committee on Evidence Rules

AGENCY: Advisory Committee on Evidence Rules, Judicial Conference of the United States.

ACTION: Notice of open meeting.

SUMMARY: The Advisory Committee on Evidence Rules will hold a meeting on October 25, 2019. The meeting will be open to public observation but not participation. An agenda and supporting materials will be posted at least 7 days in advance of the meeting at: http://www.uscourts.gov/rules-policies/records-and-archives-rules-committees/agenda-books.

DATES: October 25, 2019 (9:00 a.m.-5:00 p.m.).

ADDRESSES: Vanderbilt University, 131 21st Avenue South, Nashville, TN 37203.

FOR FURTHER INFORMATION CONTACT: Rebecca A. Womeldorf, Rules Committee Secretary, Rules Committee Staff, Administrative Office of the United States Courts, Washington, DC 20544, telephone (202) 502-1820.

Dated: August 1, 2019.
Rebecca A. Womeldorf,
Rules Committee Secretary.

[FR Doc. 2019-16739 Filed 8-5-19; 8:45 am]

BILLING CODE 2210-55-P